PENSION BENEFIT GUARANTY CORPORATION

Submission of Information Collections for OMB Review; Comment Request; Payment of Premiums

AGENCY: Pension Benefit Guaranty Corporation.

ACTION: Notice of request for OMB approval of revision of collection of information.

SUMMARY: The Pension Benefit Guaranty Corporation (“PBGC”) is requesting Office of Management and Budget (“OMB”) approval, under the Paperwork Reduction Act, of a revision of the collection of information under its regulation on Payment of Premiums (29 CFR part 4007) (OMB control number 1212-0009; expires November 30, 2006). This collection of information also includes a certification of compliance with requirements to provide certain notices to participants under the PBGC's regulation on Disclosure to Participants (29 CFR part 4011). The PBGC is revising the collection of information to provide for an alternative means of electronic filing of premium information, in addition to the PBGC's existing e-filing method using “My Plan Administration Account” (“My PAA”) through the PBGC's Web site. The alternative e-filing method is being developed in connection with a PBGC proposal to require electronic premium filing in the near future. This notice informs the public of the PBGC's request to OMB and solicits public comment on the collection of information.

DATES: Comments should be submitted by April 25, 2005.

ADDRESSES: Comments should be mailed to the Office of Information and Regulatory Affairs of the Office of Management and Budget, Attention: Desk Officer for Pension Benefit Guaranty Corporation, 725 17th Street, NW., Washington, DC 20503. Copies of the request for approval (including the collection of information) may be obtained without charge by writing to or visiting the PBGC's Communications and Public Affairs Department, suite 240, 1200 K Street, NW., Washington, DC 20005-4026, or calling 202-326-4040. (TTY and TDD users may call 800-877-8339 and request connection to 202-326-4040). The PBGC's regulations on Payment of Premiums (29 CFR part 4007), Disclosure to Participants (29 CFR part 4011), and Filing, Issuance, Computation of Time, and Record Retention (29 CFR part 4000) and the paper premium forms and instructions can be accessed on the PBGC's Web site at http://www.pbgc.gov; the My PAA forms and instructions can also be accessed through the Web site by My PAA users.

FOR FURTHER INFORMATION CONTACT: Deborah C. Murphy, Attorney, Legislative & Regulatory Department, Pension Benefit Guaranty Corporation, 1200 K Street, NW., Washington, DC 20005-4026, 202-326-4024. (TTY and TDD users may call the Federal relay service toll-free at 1-800-877-8339 and ask to be connected to 202-326-4024.)

SUPPLEMENTARY INFORMATION: Section 4007 of Title IV of the Employee Retirement Income Security Act of 1974 (“ERISA”) requires the Pension Benefit Guaranty Corporation (“PBGC”) to collect premiums from pension plans covered under Title IV pension insurance programs. Pursuant to ERISA section 4007, the PBGC has issued its regulation on Payment of Premiums (29 CFR part 4007). Section 4007.3 of the premium payment regulation requires plans, in connection with the payment of premiums, to file forms prescribed by the PBGC and refers filers to subpart A of its regulation on Filing, Issuance, Computation of Time, and Record Retention (29 CFR part 4000) for rules on permissible filing methods. (Payments are treated as filings.) Section 4007.10 of the premium payment regulation requires plans to retain and make available to the PBGC records supporting or validating the computation of premiums paid.

The PBGC has prescribed a series of paper premium forms: Form 1-ES, Form 1-EZ, and Form 1 and (for single-employer plans only) Schedule A to Form 1. Form 1-ES is issued, with instructions, in the PBGC's Estimated Premium Payment Package. Form 1-EZ, Form 1, and Schedule A are issued, with instructions, in the PBGC's Annual Premium Payment Package. The PBGC issues these forms on paper and also makes them available on its Web site so that filers can print them out. In addition, a number of private-sector software developers have created software that prints out filers' premium information on PBGC-approved forms; filers can use this private-sector computer software to prepare their premium declarations and can then file the paper forms generated by that software.

In addition, the PBGC provides for premium filing through an electronic facility, “My Plan Administration Account” (“My PAA”), on its Web site at http://www.pbgc.gov. The forms that filers prepare using My PAA are not in the same format as the paper premium forms, but they solicit the same premium information.

Premium forms are used to report the computation, determine the amount, and record the payment of PBGC premiums. The submission of premium information and retention and submission of premium records are needed to enable the PBGC to perform premium audits. The plan administrator of each pension plan covered by Title IV of ERISA is required to file one or more premium forms each year. The PBGC uses the information on the premium forms to identify the plans paying premiums; to verify whether plans are paying the correct amounts; and to help the PBGC determine the magnitude of its exposure in the event of plan termination. That information and the retained records are used for audit purposes.

In addition, section 4011 of ERISA and the PBGC's regulation on Disclosure to Participants (29 CFR part 4011) require plan administrators of certain underfunded single-employer pension plans to provide an annual notice to plan participants and beneficiaries of the plans' funding status and the limits on the PBGC's guarantee of plan benefits. In general, the Participant Notice requirement applies (subject to certain exemptions) to plans that must pay a variable-rate premium. In order for the PBGC to monitor compliance with part 4011, single-employer plan administrators must indicate in their premium filings whether the Participant Notice requirements have been complied with.

The collection of information under the regulation on Payment of Premiums, including Form 1-ES, Form 1-EZ, Form 1, and Schedule A to Form 1, corresponding My PAA electronic forms, and related instructions has been approved by the Office of Management and Budget (“OMB”) under control number 1212-0009. The collection of information also includes the certification of compliance with the Participant Notice requirements (but not the Participant Notices themselves).

The PBGC is developing a new electronic filing method, in addition to the existing My PAA application, that will be tied to the private-sector software that many filers currently use to print out pre-filled PBGC-approved forms that they then file. Under this new e-filing method, the PBGC will establish standards for the structure and submission of electronic files containing premium filing information and procedures for PBGC approval of files created with such software as meeting the established standards. Developers of private-sector premium filing preparation software will be invited to incorporate in their software packages the capacity to create electronic premium information files that meet these standards. Users of such software will then be able to submit their premium filings to the PBGC electronically as an alternative to both paper submissions and the use of My PAA. This alternative e-filing method is being developed in connection with a PBGC proposal to require electronic premium filing in the near future.

In connection with and as part of the new filing standards, the PBGC is providing for a new method for certifying premium filings made using private-sector software. Currently, a plan's premium filing must be certified by the plan administrator and, in many cases, also by an enrolled actuary. My PAA, which uses interactive software on the PBGC's Web site, permits both a plan administrator and an enrolled actuary to certify the same filing, but the PBGC anticipates that private-sector software developers will find it difficult or impossible to implement such a feature, which requires both the plan administrator and the enrolled actuary to access the same filing electronically.

Accordingly, the PBGC is introducing a new premium filing certification methodology for premium e-filings made with private-sector software. The new methodology requires one responsible person (who may but need not be either the plan administrator or the enrolled actuary) to certify a private-sector software premium e-filing. If the responsible person is not the plan administrator, the certification will also state that the responsible person is authorized to act by the plan administrator and has a written representation from the plan administrator that the filing is proper. If the responsible person is not the enrolled actuary, the certification for a filing that includes actuarial items (variable-rate premium computations or certain variable-rate premium exemptions) will also state that the responsible person has a written representation from the enrolled actuary that the actuarial items in the filing are proper. The responsible person may be either the plan administrator or the enrolled actuary, and if not, must be at an appropriate level of authority.

The PBGC is requesting that OMB approve this revision of the collection of information. An agency may not conduct or sponsor, and a person is not required to respond to, a collection of information unless it displays a currently valid OMB control number.

The PBGC estimates that it will receive premium filings annually from about 28,900 plan administrators and that the total annual burden of the collection of information will be about 3,478 hours and $18,172,550. (These estimates include paper and electronic filings.)

Issued in Washington, DC, this 18th day of March, 2005.
Richard W. Hartt,
Assistant Executive Director and Chief Technology Officer, Pension Benefit Guaranty Corporation.

[FR Doc. 05-5828 Filed 3-23-05; 8:45 am]

BILLING CODE 7708-01-P